DEPARTMENT OF LABOR

Employment and Training Administration

Agency Information Collection Activities; Comment Request; Tax Performance System (TPS)

AGENCY: Employment and Training Administration, Department of Labor.

ACTION: Notice.

SUMMARY: The Department of Labor (DOL), Employment and Training Administration is soliciting comments regarding a proposed extension for the authority to conduct the information collection request (ICR) titled, “Tax Performance System.” This comment request is part of continuing Departmental efforts to reduce paperwork and respondent burden in accordance with the Paperwork Reduction Act of 1995 (PRA).

DATES: Consideration will be given to all written comments received by May 7, 2018.

ADDRESSES: A copy of this ICR with applicable supporting documentation; including a description of the likely respondents, proposed frequency of response, and estimated total burden may be obtained at no cost by contacting Patrick Holmes by telephone at (202) 693-3203, TTY1-877-889-5627, (these are not toll-free numbers) or by email at Holmes.Patrick.G@dol.gov.

Submit written comments about, or requests for a copy of, this ICR by mail or courier to the U.S. Department of Labor, Employment and Training Administration, Office of Unemployment Insurance, 200 Constitution Avenue NW, Room S-4519, Washington, DC 20210; by email: Holmes.Patrick.G@dol.gov; or by Fax (202) 693-3975.

Authority: 44 U.S.C. 3506(c)(2)(A).

SUPPLEMENTARY INFORMATION: The DOL, as part of continuing efforts to reduce paperwork and respondent burden, conducts a pre-clearance consultation program to provide the general public and Federal agencies an opportunity to comment on proposed and/or continuing collections of information before submitting them to the OMB for final approval. This program helps to ensure requested data can be provided in the desired format, reporting burden (time and financial resources) is minimized, collection instruments are clearly understood, and the impact of collection requirements can be properly assessed.

Since 1987, states have been required by regulation at 20 CFR part 602 to operate a program to assess their Unemployment Insurance (UI) tax and benefit programs. TPS is designed to assess the major internal UI tax functions by utilizing several methodologies to examine the accuracy of the ETA 581, Contribution Operations Report, OMB approval number 1205-0178, expiring June 30, 2018, and its associated Computed Measures. A two-fold examination contains “Systems Reviews” which examine tax systems for the existence of internal controls and the extraction of small samples of those systems' transactions, which are then examined to verify the effectiveness of controls. Section 303(a)(1) of the Social Security Act authorizes this information collection.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB control number 1205-0332.

Submitted comments will also be a matter of public record for this ICR and posted on the internet, without redaction. The DOL encourages commenters not to include personally identifiable information, confidential business data, or other sensitive statements/information in any comments.

The DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Type of Review: Extension without change.

Title of Collection: Tax Performance System.

Form: TPS.

OMB Control Number: 1205-0332.

Affected Public: State Workforce Agencies.

Estimated Number of Respondents: 52.

Frequency: Once.

Total Estimated Annual Responses: 52.

Estimated Average Time per Response: 1,709 hours (TPS review 1,669 hrs. + data entry 40 hrs.).

Estimated Total Annual Burden Hours: 88,868 hours.

Total Estimated Annual Other Cost Burden: $ 0.

Rosemary Lahasky,
Deputy Assistant Secretary for Employment and Training, Labor.

[FR Doc. 2018-04509 Filed 3-5-18; 8:45 am]

BILLING CODE 4510-FW-P